Proclamation 9040 of October 11, 2013

National School Lunch Week, 2013

By the President of the United States of America

A Proclamation

In 1946, when American communities bore the weight of endemic malnutrition, and parents struggled to provide their children with decent meals for the long school day, President Harry Truman signed the National School Lunch Act. The law is based on a simple conviction—that in the most powerful Nation on earth, no child should go hungry. And today, with more than 32 million children participating in the National School Lunch Program, strong nutrition at school remains as important as ever. During National School Lunch Week, we recommit to the basic promise that every American child should have a chance to succeed, and we recognize the role nutrition plays in giving our children the opportunity to reach for their dreams.

My Administration is working to fulfill our essential commitment to America's sons and daughters. For too many of our children, food served at school may be their only regular meals, providing the sustenance they need to focus and excel. With the Healthy, Hunger-Free Kids Act, we expanded access to school meals while taking action to combat childhood obesity. Obesity now affects 17 percent of all children and adolescents in the United States—triple the rate from just one generation ago—and that means more of our children are at risk for preventable health problems including diabetes and heart disease. We updated nutritional standards for school meals, balancing calories and limiting fat and sodium while increasing servings of fruits, vegetables, and whole grains. First Lady Michelle Obama's Let's Move! initiative works with elected officials, parents, schools, and communities to help young people and their parents access healthy foods and make healthy choices, empowering students to be engaged in the classroom and active throughout their lives.

As he signed the National School Lunch Act into law, President Truman reminded us that “In the long view, no nation is any healthier than its children.” This week, as we look to a healthy future, we give our thanks to the food program administrators, educators, parents, and communities who are doing their part to get us there.

The Congress, by joint resolution of October 9, 1962 (Public Law 87-780), as amended, has designated the week beginning on the second Sunday in October each year as “National School Lunch Week” and has requested the President to issue a proclamation in observance of this week.

NOW, THEREFORE, I, BARACK OBAMA, President of the United States of America, do hereby proclaim the week of October 13 through October 19, 2013, as National School Lunch Week. I call upon all Americans to join the dedicated individuals who administer the National School Lunch Program in appropriate activities that support the health and well-being of our Nation's children.

IN WITNESS WHEREOF, I have hereunto set my hand this eleventh day of October, in the year of our Lord two thousand thirteen, and of the Independence of the United States of America the two hundred and thirty-eighth.

[FR Doc. 2013-24524

Filed 10-17-13; 8:45 am]

Billing code 3295-F4